DEPARTMENT OF HEALTH AND HUMAN SERVICES

National Institutes of Health

Proposed Collection; Comment Request; Clinical Trials Reporting Program (CTRP) Database (NCI)

Summary: In compliance with the requirement of Section 3506(c)(2)(A) of the Paperwork Reduction Act of 1995, for opportunity for public comment on proposed data collection projects, the National Cancer Institute (NCI), the National Institutes of Health (NIH) will publish periodic summaries of proposed projects to be submitted to the Office of Management and Budget (OMB) for review and approval.

Proposed Collection: Title: Clinical Trials Reporting Program (CTRP) Database. Type of Information Collection Request: Revision of currently approved collection [OMB No. 0925-0600, expiration date 01/31/2010]. Need and Use of Information Collection: The NCI is developing an electronic resource, the NCI Clinical Trials Reporting Program (CTRP) Database, to serve as a single, definitive source of information about all NCI-supported clinical research, thereby enabling the NCI to execute its mission to reduce the burden of cancer and to ensure an optimal return on the nation's investment in cancer clinical research. Information will be submitted by clinical research administrators as designees of clinical investigators who conduct NCI-supported clinical research. Deployment and extension of the CTRP Database, which will allow the NCI to consolidate reporting, aggregate information and reduce redundant submissions, is an infrastructure development project that will be enabled by public funds expended pursuant to the American Recovery and Reinvestment Act of 2009, Public Law 111-5 (“Recovery Act”). This information collection adheres to The Public Health Service Act, Section 407(a)(4) (codified at 42 USC 285a-2(a)(2)(D)), which authorizes and requires the NCI to collect, analyze and disseminate all data useful in the prevention, diagnosis, and treatment of cancer, including the establishment of an international cancer research data bank to collect, catalog, store, and disseminate insofar as feasible the results of cancer research undertaken in any country for the use of any person involved in cancer research in any country. Frequency of Response: Once per initial trial registration; four amendments per trial annually; and four accrual updates per trial annually. Affected Public: Individuals, business and other for-profits, and not-for-profit institutions. Type of Respondents: Clinical research administrators on behalf of clinical investigators. The annual reporting burden is estimated at 38,500 hours.

There are no Capital Costs, Operating Costs, and/or Maintenance Costs to report.

A.12-1—Estimates of Annual Burden Hours
Type of respondents | Survey instrument | Number of respondents | Frequency of response | Average time per response (minutes/ hours) | Annual burden hours
Clinical Trials | Initial Registration | 5,500 | 1 | 120/60 | 11,000.
| Amendment | 5,500 | 4 | 60/60 | 22,000.
| Accrual Updates | 5,500 | 4 | 15/60 | 5,500.
Total |  | 16,500 |  |  | 38,500.

Request for Comments: Written comments and/or suggestions from the public and affected agencies are invited on one or more of the following points: (1) Evaluate whether the proposed collection of information is necessary for the proper performance of the function of the agency, including whether the information will have practical utility; (2) Evaluate the accuracy of the agency's estimate of the burden of the proposed collection of information, including the validity of the methodology and assumptions used; (3) Enhance the quality, utility, and clarity of the information to be collected; and (4) Minimize the burden of the collection of information on those who are to respond, including the use of appropriate automated, electronic, mechanical, or other technological collection techniques or other forms of information technology.

For Further Information Contact: To request more information on the proposed project or to obtain a copy of the data collection plans and instruments, contact John Speakman, Associate Director for Clinical Trials Products and Programs, Center for Biomedical Informatics and Information Technology, National Cancer Institute, NIH, DHHS, 2115 E. Jefferson Street, Suite 6000, Rockville, MD 20892 or call non-toll-free number 301-451-8786 or e-mail your request, including your address to: john.speakman@nih.gov.

Comments Due Date: Comments regarding this information collection are best assured of having their full effect if received within 60 days of the date of this publication.

Dated: October 30, 2009.
Vivian Horovitch-Kelley,
NCI Project Clearance Liaison, National Institutes of Health.

[FR Doc. E9-26875 Filed 11-6-09; 8:45 am]

BILLING CODE 4140-01-P